DEPARTMENT OF TRANSPORTATION

Coast Guard

33 CFR Part 100

[CGD11-01-002]

RIN 2115-AE46

Special Local Regulations: Parker International Waterski Marathon

AGENCY: Coast Guard, DOT.

ACTION: Notice of implementation.

SUMMARY: This notice implements 33 CFR 100.1102, Marine Events on the Colorado River, between Davis Dam (Bullhead City, Arizona) and Headgate Dam (Parker, Arizona), for the Parker International Waterski Marathon. The race will consist of power driven vessels ranging in size from 19-26 feet for a waterski competition. These regulations will be effective on that portion of the Colorado River beginning at Bluewater Marina in Parker, AZ, and extending approximately 10 miles to La Paz County Park. Notice of Implementation of 33 CFR 100.1102 is necessary to control vessel traffic in the regulated areas during the event to ensure the safety of participants and spectators.

Pursuant to 33 CFR 100.1102(c), Commanding Officer, Coast Guard Activities San Diego, is designated Patrol Commander for this event; he has the authority to delegate this responsibility to any Coast Guard, public, state, local law enforcement, and/or sponsor provided vessels. For this event, the Coast Guard has designated the Colorado River Indian Tribe Police as Patrol Commander.

EFFECTIVE DATES: This section is effective from 8 a.m. (MST) until 4:30 p.m. (MST) on March 10, 2001 through March 11, 2001. If the event concludes prior to the scheduled termination date and/or time, the Colorado River Indian Tribe Police will cease enforcement of this section.

FOR FURTHER INFORMATION CONTACT: Petty Officer Nicole Lavorgna, U. S. Coast Guard MSO San Diego, San Diego, California; Telephone: (619) 683-6495.

Discussion of Implementation. These Special Local Regulations permit Coast Guard or their designated representative control of vessel traffic in order to ensure the safety of spectator and participant vessels. In accordance with the regulations in 33 CFR 100.1102, no persons or vessels shall block, anchor, or loiter in the regulated area; nor shall any person or vessel transit through the regulated area, or otherwise impede the transit of participant or official patrol vessels in the regulated area, unless cleared for such entry by or through an official patrol vessel acting on behalf of the Patrol Commander.

Dated: January 30, 2001.
D.W. Kunkel,
U.S. Coast Guard Commander, Eleventh Coast Guard District, Acting.

[FR Doc. 01-3371 Filed 2-8-01; 8:45 am]

BILLING CODE 4910-15-P